DEPARTMENT OF LABOR

Employment and Training Administration

[TA-W-56,134; TA-W-56,134A]

Tyco Electronics, Power Components (COEV) Division, Watertown, SD, Including an Employee of Tyco Electronics, Power Components, (COEV) Division, Watertown, SD, Located in Plano, TX; Amended Notice of Certification Regarding Eligibility To Apply for Worker Adjustment Assistance and Alternative Trade Adjustment Assistance

In accordance with Section 223 of the Trade Act of 1974 (19 U.S.C. 2273) the Department of Labor issued a Notice of Certification Regarding Eligibility to Apply for Worker Adjustment Assistance and Alternative Trade Adjustment Assistance on January 19, 2005, applicable to workers of Tyco Electronics, Power Components (COEV) Division, Watertown, South Dakota. The notice was published in the Federal Register on February 7, 2005 (70 FR 6460).

At the request of the State agency, the Department reviewed the certification for workers of the subject firm. New information shows that a worker separation occurred involving an employee of the Watertown, South Dakota facility of Tyco Electronics, Power Components (COEV) Division who was located in Plano, Texas. Mr. Dale E. Booso provided sales support services for the production of transformers and other components for networking, power and broadband magnetic products at the Watertown, South Dakota location of the subject firm.

Based on these findings, the Department is amending this certification to include an employee of the Watertown South Dakota facility of Tyco Electronics, Power Components (COEV) Division located in Plano, Texas. Since workers of the Watertown, South Dakota location of the subject firm were certified eligible to apply for alternative trade adjustment assistance, the Department is extending this eligibility to Mr. Dale E. Booso in Plano, Texas.

The intent of the Department's certification is to include all workers of Tyco Electronics, Power Components (COEV) Division, Watertown, South Dakota, who were adversely affected by increased imports.

The amended notice applicable to TA-W-56,134 is hereby issued as follows:

All workers of Tyco Electronics, Power Components (COEV) Division, Watertown, South Dakota (TA-W-56,134), including an employee of Tyco Electronics, Power Components (COEV) Division, Watertown, South Dakota, located in Plano, Texas (TA-W-56,134A), who became totally or partially separated from employment on or after December 2, 2003, through January 19, 2007, are eligible to apply for adjustment assistance under Section 223 of the Trade Act of 1974, and are also eligible to apply for alternative trade adjustment assistance under Section 246 of the Trade Act of 1974.

Signed at Washington, DC, this 9th day of March 2005.
Elliott S. Kushner,
Certifying Officer, Division of Trade Adjustment Assistance.

[FR Doc. E5-1239 Filed 3-21-05; 8:45 am]

BILLING CODE 4510-30-P